DEPARTMENT OF AGRICULTURE

Animal and Plant Health Inspection Service

[Docket No. 98-085-7]

Aquaculture; Public Meeting

AGENCY: Animal and Plant Health Inspection Service, USDA.

ACTION: Notice of public meeting and request for comments.

SUMMARY: We are issuing this notice to inform the aquaculture industries, interested parties, and the general public that a public meeting will be held to discuss how and to what extent the Animal and Plant Health Inspection Service should regulate aquatic species and to discuss any other issues concerning possible regulation of aquaculture by the Agency. This notice also invites written comments on these issues.

DATES: The public meeting will be held on October 4, 2001, from 1:30 p.m. to 4 p.m. We will consider written comments that we receive on or before February 1, 2002.

ADDRESSES: The public meeting will be held at the University of Arkansas at Pine Bluff, 1890 Extension Building, Spruce and Oliver Streets, Pine Bluff, AR.

Please send four copies of your written comments (an original and three copies) to: Docket No. 98-085-7, Regulatory Analysis and Development, PPD, APHIS, Suite 3C03, 4700 River Road, Unit 118, Riverdale, MD 20737-1238. Please state that your comment refers to Docket No. 98-085-7.

You may read any written comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For more information on the public meeting, contact Dr. Otis Miller, Jr., National Aquaculture Coordinator, Planning, Certification, and Monitoring, VS, APHIS, 4700 River Road Unit 46, Riverdale, MD 20737-1231, (301) 734-6188.

For information regarding aquaculture activities at the University of Arkansas at Pine Bluff, call Dr. Carole Engle, Director of Aquaculture/Fisheries Center, University of Arkansas at Pine Bluff, (870) 543-8537.

SUPPLEMENTARY INFORMATION: On May 4, 1999, the Animal and Plant Health Inspection Service (APHIS) published an advance notice of proposed rulemaking (ANPR) titled “Aquaculture: Farm-Raised Fin Fish” in the Federal Register (64 FR 23795-23796, Docket No. 98-085-1). We published this ANPR after receiving petitions ¹ asking us to regulate aquaculture in various ways. Many petitioners asked us to define farmed aquatic animals as livestock. In general, the petitioners seemed to be interested in receiving the same services that domestic producers of livestock receive for animals moving in interstate and foreign commerce. However, based on the petitions alone, it was difficult for us to determine what segments of the industry want services and exactly what services they want. It was also difficult to determine the objectives sought by the petitioners who were requesting Federal regulation. We published the ANPR in an attempt to clarify the industry's needs, the nature of the services sought, and the concerns the petitioners had with regard to such regulations.

¹ All the petitions we received are a part of the rulemaking record for Docket No. 98-085-1. You may read the petitions in our reading room. See the ADDRESSES section of this documents for the location and hours of the reading room.

We received 55 comments ² in response to the ANPR. A majority of the commenters supported the idea of APHIS regulation of cultured fin fish. Unfortunately, the commenters generally did not clearly distinguish between fin fish raised for food and ornamental fin fish. Commenters who wanted regulation were, however, very clear that they want programs to prevent and control disease and to support increased commerce, both domestic and export.

² All the comments we received are a part of the rulemaking record for Docket No. 98-085-1. You may read the comments in our reading room. See the ADDRESSES section of this document for the location and hours of the reading room.

The commenters also suggested that any rulemaking initiated by APHIS be a negotiated rulemaking. In negotiated rulemaking, industry representatives and other interested persons meet with APHIS officials and draft proposed regulations together. The proposed regulations are then published for public comment. Negotiated rulemaking is designed to ensure that all interested persons are involved together from the start in the development of regulations.

Unfortunately, negotiated rulemaking is not suitable for all situations. It works well when there is a small number of interested parties and the parties are easy to identify. This is not the case with aquaculture. Because the aquaculture industry is large and diverse, we would have difficulty identifying everyone who should be represented in a negotiated rulemaking. In addition, many parties outside aquaculture would have a substantial interest in such a rulemaking. In our view, the number of people who would need to participate in a negotiated rulemaking would be too large and would suggest that negotiated rulemaking is not appropriate. Furthermore, a negotiated rulemaking would be expensive, and APHIS does not have adequate funds. Therefore, we have concluded that it would not be appropriate to pursue an aquaculture negotiated rulemaking.

However, we have not decided whether to pursue aquaculture rulemaking by other means. Before we make that decision, we want to have as much information as possible from all interested persons, and we want to provide you with as much opportunity as possible to discuss with us and inform us regarding the relevant issues.

Therefore, we are holding a series of public meetings. Public meetings allow all interested parties—industry representatives, producers, consumers, and others—to present their views and to exchange information among themselves and with APHIS.

There are no set agendas for the meetings. Any issues and concerns related to aquaculture and possible APHIS regulatory action can be discussed. However, we would like more information on three specific issues. These are issues that the people and organizations who commented on our ANPR either did not address or were unclear about. Specifically, if APHIS does propose regulations: (1) Should our program be mandatory or voluntary; (2) should we cover shell fish; and (3) should we cover ornamental fin fish?

Information elicited at the meetings could result in a new APHIS regulatory program or in changes to aquaculture-related services currently provided by APHIS.

We have scheduled this public meeting for Thursday, October 4, 2001, at the University of Arkansas at Pine Bluff, Pine Bluff, AR. If you wish to speak at the meeting, please register in advance by calling the Regulatory Analysis and Development voice mail at (301) 734-4339. Leave a message with your name, telephone number, organization, if any, and an estimate of the time you need to speak. On the day of the meeting, you may also register from 1 to 1:30 p.m. at the meeting site. Starting with the advance registrants, we will call speakers in the order in which they registered.

The meeting will begin at 1:30 p.m. and is scheduled to end at 4 p.m. We may end the meeting early if all the registered speakers have had a chance to speak and if no one else wants to speak. We may also extend the meeting or limit the time allowed for each speaker, if necessary, so all interested persons have an opportunity to participate.

An APHIS representative will preside at the meeting. The meeting will be recorded. We encourage speakers to present written statements, though it is not required. If you choose to present a written statement, please provide the chairperson with a copy. The complete record, including the transcript and all written comments, will be available to the public.

This meeting is part of our series of public meetings. The first public meeting was held on January 25, 2001, in Lake Buena Vista, FL. The second public meeting was held on February 16, 2001, in Hebron, KY. The third public meeting was held on April 5, 2001, in Machias, ME, and the fourth public meeting was held on June 8, 2001, in Twin Falls, ID. Recently, we announced three other meetings: Washington (September 19, 2001, in conjunction with the joint meeting of the Pacific Coast Shellfish Growers Association and the National Shellfish Association/Pacific Coast Section Conference); Pennsylvania (October 9, 2001, in conjunction with the annual meetings of the Pennsylvania Aquaculture Advisory Committee and the Pennsylvania Aquaculture Association); and Mississippi (October 10, 2001, in conjunction with the annual Board meeting of the Catfish Farmers of America). On July 27, 2001, we published a notice in the Federal Register (66 FR 39134-39136, Docket No. 98-085-6) announcing the dates, times, and locations of these three meetings. Transcripts of the proceedings of each meeting are available, as we receive them, on the Internet at www.aphis.usda.gov/ppd/rad/aquaculture.html.

Additionally, to provide interested persons with as much opportunity as possible to inform us of relevant issues, we are accepting written comments mailed to the address listed at the beginning of this document under ADDRESSES.

Done in Washington, DC, this 28th day of August 2001.
Craig A. Reed,
Administrator, Animal and Plant Health Inspection Service.

[FR Doc. 01-22033 Filed 8-30-01; 8:45 am]

BILLING CODE 3410-34-P